DEPARTMENT OF COMMERCE

National Oceanic and Atmospheric Administration

RIN 0648-XM70

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings.

DATES: The meetings will be held Monday, February 2 through Tuesday, February 10, 2009. See SUPPLEMENTARY INFORMATION for specific dates and times.

ADDRESSES: The meetings will be held at the Renaissance Hotel, 515 Madison Street, Seattle, WA.

Council address: North Pacific Fishery Management Council, 605 W. 4th Avenue, Suite 306, Anchorage, AK 99501-2252.

FOR FURTHER INFORMATION CONTACT: David Witherell, Council staff, telephone: (907) 271-2809.

SUPPLEMENTARY INFORMATION: The Council will begin its plenary session at 8 a.m. on Wednesday, February 4 continuing through Tuesday, February 10, 2009. The Council's Advisory Panel (AP) will begin at 8 a.m., Monday, February 2 and continue through Friday, February 6. The Scientific and Statistical Committee (SSC) will begin at 8 a.m. on Monday, February 2 and continue through Wednesday, February 4, 2009. The Ecosystem Committee will meet Tuesday, February 3, from 4 p.m. to 6 p.m. The Enforcement Committee will meet Tuesday, February 3, from 1 p.m. to 4 p.m. in the. The Comprehensive Data Collection Committee may also meet this week at the hotel, time TBA. All meetings are open to the public, except executive sessions.

Council Plenary Session: The agenda for the Council's plenary session will include the following issues. The Council may take appropriate action on any of the issues identified.

1. Reports

Executive Director's Report

NMFS Management Report

NMFS Enforcement Report

Alaska Department of Fish & Game Report

U.S. Coast Guard Report

U.S. Fish & Wildlife Service Report

International Pacific Halibut Commission Report

Protected Species Report (update on schedule of Steller Sea Lion (SSL) draft Status Quo Biological Opinion (BiOp) and Environmental Impact Statement (EIS); Bering Sea and Aleutian Island (BSAI) Pacific cod split.

2. American Fisheries Act (AFA) Cooperative reports: Receive reports from BSAI Pollock cooperatives.

3. Arctic Fishery Management Plan (FMP): Final action to adopt FMP for the Arctic region.

4. Salmon Bycatch: Review Inter-Cooperative Agreement (ICA) incentive proposals and Bycatch Committee Report.

5. Amendment 80: Initial review of analysis for Amendment 80 Cooperative Formation.

6. BSAI Fixed Gear: Initial review of BSAI fixed gear parallel fisheries analysis.

7. Gulf of Alaska (GOA) Sideboards: Discussion paper on GOA Sideboards for AFA catcher vessels; Initial review of GOA Pacific cod sideboards for crab vessels.

8. BSAI Crab Issues: Initial review BSAI Crab Regional Delivery Relief; Receive Committee report; Receive proposed workplan and timeline for crab analysis/discussion papers for changes to the program, and action as necessary; Receive progress report on Crab Economic Data Report (EDR) surveys.

9. Marine Protection Act Nomination Process: Review NMFS letter and discuss next steps (T).

10. Halibut/Sablefish Issues: Review/Rescind previous action to remove inactive Individual Fishing Quota (IFQ) shares; Review halibut catch sharing plan discussion papers (SSC only): (i) Maximum size limit analysis (ii) ADF&G charter halibut harvest projection methodology.

11. Miscellaneous Issues: Receive Committee report on comprehensive data collection; Review of Halibut Prohibited Species Catch (PSC) Discard Survival Exempted Fishing Permit (EFP); Review of halibut sorting EFP (T); Review discussion paper on BS bottom trawl sweeps; Review discussion paper on GOA Rockfish Program changes; Review revised discussion paper on AI Pacific cod processing sideboards (T).

12. Staff Tasking: Review Committees and tasking; Receive report on Alaska Native/Community Outreach.

13. Other Business.

The SSC agenda will include the following issues:

1. Arctic FMP

2. Salmon Bycatch

3. Amendment 80

4. BSAI Fixed gear

5. GOA Sideboards

6. BSAI Crab Issues

7. Halibut Catch Sharing plan

8. Committee report on Crab EDR surveys

9. Halibut PSC discard survival EFP

10. Halibut sorting EFP

Additionally, the SSC will hold a Science Workshop on the role of Stock Structure in management of commercial fisheries.

The Advisory Panel will address most of the same agenda issues as the Council, except for #1 reports. The Agenda is subject to change, and the latest version will be posted at http://www.fakr.noaa.gov/npfmc/.

Special Accommodations

These meetings are physically accessible to people with disabilities. Requests for sign language interpretation or other auxiliary aids should be directed to Gail Bendixen at (907) 271-2809 at least 7 working days prior to the meeting date.

Dated: January 13, 2009.
Tracey L. Thompson,
Acting Director, Office of Sustainable Fisheries, National Marine Fisheries Service.

[FR Doc. E9-864 Filed 1-15-09; 8:45 am]

BILLING CODE 3510-22-S